DEPARTMENT OF TRANSPORTATION

Federal Aviation Administration

Advisory Circular 25.491-1, Taxi, Takeoff and Landing Roll Design Loads

AGENCY: Federal Aviation Administration, DOT.

ACTION: Notice of issuance of advisory circular.

SUMMARY: This notice announces the issuance of Advisory Circular (AC) 25.491-1, Taxi, Takeoff and Landing Roll Design Loads. This AC sets forth acceptable methods of compliance with the provision of part 25 of the Federal Aviation Regulations (FAR) dealing with the certification requirements for taxi, takeoff and landing roll design loads. Guidance information is provided for showing compliance with § 25.491 of the FAR, relating to structural design for airplane operation on paved runways and taxiways normally used in commercial operations. Other methods of compliance with the requirements may be acceptable.

DATES: Advisory Circular 25.491-1 was issued by the Acting Manager, Transport Airplane Directorate, Aircraft Certification Service, ANM-100, on October 30, 2000.

How to Obtain Copies: A paper copy of AC 25.491-1 may be obtained by writing to the U.S. Department of Transportation, Subsequent Distribution Office, DOT Warehouse, SVC-121.23, Ardmore East Business Center, 3341Q 75th Ave., Landover, MD 20785, telephone 301-322-5377, or faxing your request to the warehouse at 301-386-5394. The AC also will be available on the Internet at http://www.faa.gov/avr/air/airhome.htm, at the link titled “Advisory Circulars” under the “Available Information” down-drop menu.

Issued in Renton, Washington, on January 8, 2001.
Donald L. Riggin,
Acting Manager, Transport Airplane Directorate, Aircraft Certification Service, ANM-100.

[FR Doc. 01-1286 Filed 1-16-01; 8:45 am]

BILLING CODE 4910-13-M